DEPARTMENT OF HEALTH AND HUMAN SERVICES

Office of the Secretary

[Document Identifier: HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before June 20, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference.

Information Collection Request Title: Teen Pregnancy Prevention Tier 1B Design and Implementation Study

Abstract: For the TPP Tier 1B Design and Implementation Study, we will document how each of the 50 grantees funded under this grant program are scaling-up efforts to strengthen and expand the reach of evidence-based TPP programs in their respective communities. OAH anticipates that grantees will employ diverse strategies in working within their communities to scale up their initiatives. Because this information collection will contribute to the emerging knowledge base about community-wide efforts to scale up evidence-based programs (EBPs), mobilize community support, and establish linkages to youth-friendly health services at the community level, it will be important to document the variety of grantee approaches and challenges they have encountered as a result of local conditions and strategies. To document these features and experiences, a lead staff member in each grantee organization will be interviewed by phone as well as up to two key grantee partners. Partners to be interviewed will be selected based on the prominence and variety of their roles within each initiative in order to provide multiple perspectives on implementation. To obtain more detail on implementation than can be gathered in a telephone interview, site visits with up to 15 grantees will be conducted to collect data that will illustrate in detail a variety of approaches and strategies for scaling up to the community level evidence-based approaches to teen pregnancy prevention.

Likely Respondents: Respondents for telephone interviews will include 50 TPP Tier 1B grantee project directors and 100 implementation partner project directors. Site visit interview participants will include 120 grantee and partner staff members, and 40 Community Advisory Group members. Eighty Youth Leadership Council members will be recruited to participate in 10 focus groups.

Total Estimated Annualized Burden—Hours
Type of respondent | Form name | Number of respondents | Number responses per respondent | Average burden per response (in hours) | Total burden hours
Grantee director (telephone) | Attachment B | 50 | 1 | 90/60 | 75
Other grantee staff | Attachment A | 60 | 1 | 1 | 60
Partner director (telephone) | Attachment B | 100 | 1 | 90/60 | 150
Other partner directors | Attachment A | 60 | 1 | 1 | 60
Youth Leadership Council members | Attachment A | 80 | 1 | 1 | 80
Community Advisory Group Members | Attachment A | 40 | 1 | 1 | 40
Total |  | 390 |  |  | 465

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2016-08975 Filed 4-18-16; 8:45 am]

BILLING CODE 4168-11-P